DEPARTMENT OF JUSTICE

Office of Justice Programs

[OJP (OJJDP) Docket No. 1595]

Meeting of the Attorney General's National Task Force on Children Exposed to Violence

AGENCY: Office of Justice Programs (OJP), Justice.

ACTION: Notice of meeting.

SUMMARY: This is an announcement of a meeting of the Attorney General's National Task Force on Children Exposed to Violence (the “task force”). The task force is chartered to provide OJP, a component of the Department of Justice, with valuable advice in the areas of children exposed to violence for the purpose of addressing the epidemic levels of exposure to violence faced by our nation's children. Based on the testimony at four public hearings; comprehensive research; and extensive input from experts, advocates, and impacted families and communities nationwide, the task force will issue a final report to the Attorney General presenting its findings and comprehensive policy recommendations in the fall of 2012.

DATES: The meeting will take place from 8:30 a.m. to 5 p.m. on Tuesday, July 24, and 8:30 a.m. to 3 p.m. on Wednesday, July 25, 2012.

ADDRESSES: The meeting will be held on the third floor in the Main Ballroom at the Office of Justice Programs Building, located at 810 7th Street NW., Washington, DC 20531.

FOR FURTHER INFORMATION CONTACT: Will Bronson, Designated Federal Officer (DFO), Deputy Associate Administrator, Child Protection Division, Office of Juvenile Justice & Delinquency Prevention, Office of Justice Programs, 810 7th Street NW., Washington, DC 20531. Phone: (202) 305-2427 [note: this is not a toll-free number]; email: willie.bronson@usdoj.gov.

SUPPLEMENTARY INFORMATION: This meeting is being convened to allow the task force members to review the report draft and provide final content edits to the report. The final agenda is subject to adjustment, but it is anticipated that on July 24, there will be a morning and afternoon session, with a break for lunch. July 25 will focus on the same tasks.

This meeting is open to the public. Members of the public who wish to attend this meeting must register with Will Bronson at defendingchildhoodtaskforce@nccdglobal.org at least seven days in advance of the meeting. Registrations will be accepted on a space-available basis.

Please bring photo identification and allow extra time prior to the meeting. Persons interested in communicating with the task force should submit their written comments to the DFO at defendingchildhoodtaskforce@nccdglobal.org, as the time available will not allow the public to directly address the task force at the meeting.

Anyone requiring special accommodations should notify Mr. Bronson at least seven (7) days in advance of the meeting.

Will Bronson,
Deputy Associate Administrator and National Task Force on Children Exposed to Violence DFO, Office of Juvenile Justice and Delinquency Prevention, Office of Justice Programs.

[FR Doc. 2012-16163 Filed 6-29-12; 8:45 am]

BILLING CODE 4410-18-P